SECURITIES AND EXCHANGE COMMISSION

Sunshine Act Meeting

Federal Register CITATION OF PREVIOUS ANNOUNCEMENT: [80 FR 64038, October 22, 2015].

STATUS: Oral Argument.

PLACE: 100 F Street NE., Washington, DC.

DATE AND TIME OF PREVIOUSLY ANNOUNCED MEETING: October 26, 2015.

CHANGE IN THE MEETING: Room Change.

The Oral Argument scheduled for Monday, October 26, 2015 at 1:00 p.m. will be held in the Closed Commission Hearing (Room 10800).

At times, changes in Commission priorities require alterations in the scheduling of meeting items. For further information and to ascertain what, if any, matters have been added, deleted or postponed, please contact:

The Office of the Secretary at (202) 551-5400.

Dated: October 22, 2015.
Brent J. Fields,
Secretary.

[FR Doc. 2015-27357 Filed 10-22-15; 4:15 pm]

BILLING CODE 8011-01-P